DEPARTMENT OF TRANSPORTATION

Federal Railroad Administration

[Docket No. FRA-2022-0002-N-1]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) abstracted below. Before submitting this ICR to the Office of Management and Budget (OMB) for approval, FRA is soliciting public comment on specific aspects of the activities identified in the ICR.

DATES: Interested persons are invited to submit comments on or before March 15, 2022.

ADDRESSES: Written comments and recommendations for the proposed ICR should be submitted on regulations.gov to the docket, Docket No. FRA-2022-0002. All comments received will be posted without change to the docket, including any personal information provided. Please refer to the assigned OMB control number in any correspondence submitted. FRA will summarize comments received in response to this notice in a subsequent notice and include them in its information collection submission to OMB for approval.

FOR FURTHER INFORMATION CONTACT: Ms. Hodan Wells, Information Collection Clearance Officer, at email: hodan.wells@dot.gov or telephone: (202) 493-0440.

SUPPLEMENTARY INFORMATION: The PRA, 44 U.S.C. 3501-3520, and its implementing regulations, 5 CFR part 1320, require Federal agencies to provide 60-days' notice to the public to allow comment on information collection activities before seeking OMB approval of the activities. See 44 U.S.C. 3506, 3507; 5 CFR 1320.8 through 1320.12. Specifically, FRA invites interested parties to comment on the following ICR regarding: (1) Whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, FRA reasons that comments received will advance three objectives: (1) Reduce reporting burdens; (2) organize information collection requirements in a “user-friendly” format to improve the use of such information; and (3) accurately assess the resources expended to retrieve and produce information requested. See 44 U.S.C. 3501.

The summaries below describe the ICRs that FRA will submit for OMB clearance as the PRA requires:

Title: Locomotive Certification (Noise Compliance Regulations).

OMB Control Number: 2130-0527.

Abstract: Under authority granted by the Noise Control Act of 1972, the Environmental Protection Agency (EPA) has established limits for noise emissions related to rail carriers in 40 CFR part 201. Those limits are enforced by FRA under 49 CFR part 210. In particular, the information FRA collects under § 210.27 is necessary to ensure compliance with EPA noise standards for new locomotives. Although railroads no longer need to display a certification badge or tag in the locomotive cab, as was previously required by now-removed § 210.27(d), the locomotives still need to be tested and certified to comply with the noise emission standards, as required under § 210.27(a)-(c).

Type of Request: Extension without change (with changes in estimates) of a currently approved collection.

Affected Public: Businesses.

Form(s): N/A.

Respondent Universe: 4 locomotive manufacturers.

Frequency of Submission: On occasion.

Reporting Burden:

CFR section ¹ | Respondent universe | Total annual responses | Average time per response | Total annual burden hours | Total cost equivalent
|  | (A) | (B) | (C) = A * B | (D) = C * wage rate ²
210.11—Waivers | FRA anticipates zero waivers.
210.27(a)-(c)—New locomotive certification—Request for certification | 4 locomotive manufacturers | 4 requests | 30 minutes | 2 | $155
210.31—Operation standards (stationary locomotives at 30 meters)—Recorded locomotive noise emission test under the “Remarks” section on the reverse side of Form FRA F 6180.49 | The estimated paperwork burden for recording locomotive noise emission tests is under OMB control number 2130-0004 under the “Remarks” section on the reverse side of Form FRA F 6180.49A.
Total | 4 locomotive manufacturers | 4 responses | N/A | 2 | 155

Total Estimated Annual Responses: 4.

¹ The current inventory exhibits a total burden of 2,237 hours while the total burden of this notice is 2 hours. As part of its review of this ICR renewal, FRA determined the 2018 estimates incorrectly included the time associated with the testing. For instance, under § 210.31, the burdens associated with testing have been addressed when FRA calculated the economic costs of the regulatory requirements. Additionally, the burden associated with the test records are covered under OMB control number 2130-0004. Thus, FRA has adjusted the estimated paperwork burden in the PRA table above so that it does not include activities outside of the scope of the PRA.

² Throughout this notice, the dollar equivalent cost is derived from the Surface Transportation Board's 2020 Full Year Wage A&B data series using the appropriate employee group hourly wage rate that includes a 75-percent overhead charge.

Total Estimated Annual Burden: 2 hours.

Total Estimated Annual Burden Hour Dollar Cost Equivalent: $155.

Title: Use of Locomotive Horns at Highway-Rail Grade Crossings.

OMB Control Number: 2130-0560.

Abstract: Under 49 CFR part 222, FRA seeks to collect information from railroads and public authorities in order to increase safety at public highway-rail grade crossings nationwide by requiring that locomotive horns be sounded when trains approach and pass through these crossings or by ensuring that a safety level at least equivalent to that provided by routine locomotive horn sounding exists for quiet zone corridors in which such horn sounding is silenced. FRA reviews applications by public authorities intending to establish new quiet zones by implementing alternative safety measures and approves the effectiveness rate assigned to them.

FRA made several adjustments to its estimated paperwork burdens in this ICR extension.

Type of Request: Extension without change (with changes in estimates) of a currently approved collection.

Affected Public: Businesses.

Form(s): N/A.

Respondent Universe: 754 railroads/645 public authorities.

Frequency of Submission: On occasion.

Reporting Burden:

CFR section ³ | Respondent universe | Total annual responses | Average time per response | Total annual burden hours | Total cost equivalent
|  | (A) | (B) | (C) = A * B | (D) = C * wage rate
222.15—How does one obtain a waiver of a provision of this regulation?—Petition for waiver | 754 railroads + 645 public Authorities | 2 petitions | 4 hours | 8.00 | $619.52
222.17—How can a State agency become a recognized State agency? | FRA anticipates zero applications, as FRA has yet to receive any submissions under this provision.
222.39(b)—How is a quiet zone established?—Public authority application to FRA—Applications to establish quiet zone | 645 public authorities | 15 applications | 80 hours | $1,200.00 | 74,148.00
—(b)(1)(i) Updated Grade Crossing Inventory Form (includes requirements under 222.49(a)) | 645 public authorities | 75 updated forms | 30 minutes | 37.50 | 2,317.13
—(b)(1)(iii) Diagnostic team review of proposed quiet zone crossings | 645 public authorities | 3 team reviews | 16 hours | 48.00 | 3,717.12
—(b)(3)(i) 60-day comment period—Copies of quiet zone application | 645 public authorities | 90 copies | 2 minutes | 3.00 | 185.37
—(b)(3)(ii) 60-day comment period—Comments to FRA on Quiet Zone Application | 754 railroads | 30 comments | 1.5 hours | 45.00 | 3,484.80
—(b)(3)(iii) 60-day comment period—Written no-comment statements | FRA anticipates zero written statements.
222.43—What notices and other information are required to create or continue a quiet zone? —Written notice of public authority's intent to create new quiet zone and notification to required parties | Public authorities, railroads, and state agencies | 60 notices + 180 notifications | 40 hours + 10 minutes | 2,430.00 | 150,149.70
—(b)(3) Notice of Intent -60-day comment period | 754 railroads | 120 comments | 1.5 hours | 180.00 | 13,939.20
—(d) Notice of Quiet Zone Establishment—The Notice of Quiet Zone Establishment and notification to required parties | 645 public authorities | 60 notices + 360 notifications | 40 hours + 10 minutes | 2,460.00 | 152,003.40
—(d)(2)(v)-(vi) Required contents—Updated Crossing Inventory Forms (includes requirements under 222.49(a)) | 645 public authorities | 300 updated forms | 30 minutes | 150.00 | 9,268.50
—(d)(2)(xi) Certification by chief executive officer that the information submitted by the public authority is accurate | 645 public authorities | 60 certifications | 5 minutes | 5.00 | 308.95
222.47—What periodic updates are required?—Written affirmation to FRA that Supplementary or Alternative Safety Measures (SSMs or ASMs) conform to the requirements of Appendices A and B or the terms of the Quiet Zone approval—Copies of such notification must be provided to the required parties | 645 public authorities | 180 written affirmations + 1,080 copies | 30 minutes + 2 minutes | 126.00 | 7,785.54
—(b)(2) Updated Crossing Inventory Forms (includes requirements under 222.49(a)) | 645 public authorities | 900 updated forms | 30 minutes | 450.00 | 27,805.50
222.51(a)-(b)—Under what conditions will quiet zone status be terminated?—Written commitment to lower the potential risk to the traveling public at the crossings within the quiet zone | 645 public Authorities | 15 written commitments | 5 hours | 75.00 | 4,634.25
—(c) Review at FRA's initiative—Comments from interested parties during FRA's review of quiet zone status | 645 public authorities | 2 comments | 30 minutes | 1.00 | 61.79
222.55(b)—How are new supplementary or alternative safety measures approved? —Request for FRA Approval of new SSMs or ASMs for quiet zone | 645 public authorities | 1 letter | 30 minutes | .50 | 30.90
—(d) Request for SSM/ASM approval upon completion of demonstration of proposed new SSMs or ASMs | Interested parties and public | 1 letter | 30 minutes | .50 | 30.90
222.57(a)—Can parties seek review of the Associate Administrator's actions?—A public authority or other interested party may petition FRA for review of any decision by the Associate Administrator granting or denying an application for approval of a new SSM or ASM under § 222.55 (plus copies to the required parties) | 645 public authorities and interested parties | 1 petition + 6 copies | 2 hours + 2 minutes | 2.20 | 135.94
—(b) Request for FRA reconsideration of disapproval of Quiet Zone and copies of requests to the required parties | 645 public authorities | 1 petition letter + 6 copies | 2 hours + 2 minutes | 2.20 | 135.94
—(b) Additional documents to FRA as a follow-up to petition for reconsideration | 645 public authorities | 1 additional document and set of materials | 2 hours | 2.00 | 123.58
—(b) Letter requesting FRA for an informal hearing | 645 public authorities | 1 letter | 30 minutes | .50 | 30.90
222.59(b)—When may a wayside horn be used?—Written notice of use of wayside horn at Grade Crossing within a quiet zone plus copies of the written notices to the required parties | 645 public authorities | 5 notices + 30 copies | 2.5 hours + 2 minutes | 13.50 | 834.17
—(c) Notice of wayside horn located outside a quiet zone | 645 public authorities | 5 notices + 30 copies | 2.5 hours + 2 minutes | 13.50 | 834.17
Appendix B to Part 222—Alternative Safety Measures—Non-engineering ASMs—Programmed Enforcement | FRA anticipates zero submissions. Additionally, FRA has yet to receive any submissions under this provision.
Appendix B to Part 222—Alternative Safety Measures—Modified SSMs, Engineering ASMs—Photo Enforcement | FRA anticipates zero submissions. Additionally, FRA has yet to receive any submissions under this provision.
229.129(c)(10)—Locomotive horn—Written Reports and Records of Locomotive Horn Testing | The one-time testing requirement under this provision for locomotives built before September 18, 2016 has been fulfilled. However, any estimated burden for testing records will be covered under OMB control number 2130-0004 under 229.23.
Total | 754 railroads + 645 public authorities | 3,620 responses | N/A | 7,253 | 452,585

Total Estimated Annual Responses: 3,620.

³ The current inventory exhibits a total burden of 9,236 hours while the total burden of this notice is 7,254 hours. As part of its review of this ICR renewal, FRA determined some of the previous estimates were initial estimates, outdated, or duplicative. For instance, the burdens previously associated with Appendix B to Part 222 were zeroed because FRA has yet to receive, and does not anticipate receiving, any submissions under this provision. Additionally, the estimated paperwork burdens for §§ 222.25, 222.27, 222.35, 222.37, 222.38, 222.45, and 222.49(b) are covered under §§ 222.39 and 222.43.

Total Estimated Annual Burden: 7,253 hours.

Total Estimated Annual Burden Hour Dollar Cost Equivalent: $452,585.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Deputy Chief Counsel.

[FR Doc. 2022-00731 Filed 1-13-22; 8:45 am]

BILLING CODE 4910-06-P